DEPARTMENT OF TRANSPORTATION

Office of the Secretary

Aviation Proceedings, Agreements Filed the Week Ending October 17, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0304.

Date Filed: October 15, 2008.

Parties: Members of the International Air Transport Association.

Subject: PTC COMP Expedited Composite Resolutions (Memo 1490). Intended effective date: 1 December 2008.

Renee V. Wright,
Program Manager, Docket Operations, Federal Register Liaison.

[FR Doc. E8-27050 Filed 11-13-08; 8:45 am]

BILLING CODE 4910-9X-P